DEPARTMENT OF COMMERCE

National Oceanic and Atmospheric Administration

RIN 0648-0526

New England Fishery Management Council; Public Meeting

AGENCY: National Marine Fisheries Service (NMFS), National Oceanic and Atmospheric Administration (NOAA), Commerce.

ACTION: Notice of a public meeting.

SUMMARY: The New England Fishery Management Council (Council) will hold a two-day workshop to discuss issues that relate to establishing a risk policy for Council-managed species.

DATES: The workshop will take place on Wednesday and Thursday, March 20-21, 2013, starting at 8:30 a.m. on each day.

ADDRESSES: The meeting will be held at the Hawthorne Hotel, 18 Washington Square W, Salem, MA 01970; telephone: (978) 744-4080 or (800) 729-7829; or email: info@hawthornehotel.com.

Council address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Wednesday, March 20, 2013 and Thursday, March 21, 2013

The New England Fishery Management Council is holding a workshop to advance the development of a comprehensive acceptable biological catch (ABC) risk policy for New England fisheries through structured and participatory discussions. It is an important early step in what will be a multi-step process to develop the policy. The agenda will include speakers outside of the Council and its SSC who have experience with approaches that address risk and could be applied to fisheries management. It will provide Council members and others with a common understanding of the concepts needed to develop a risk policy. It also will provide an opportunity for communications between participants about management and science issues that relate to the ABC setting process.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: February 26, 2013.
Tracey L. Thompson,
Acting Deputy Director, Office of Sustainable Fisheries, National Marine Fisheries Service.

[FR Doc. 2013-04779 Filed 2-28-13; 8:45 am]

BILLING CODE 3510-22-P